DEPARTMENT OF ENERGY

Federal Energy Regulatory Commission

Combined Notice of Filings #1

Take notice that the Commission received the following electric corporate filings:

Docket Numbers: EC14-24-000.

Applicants: Steele Flats Wind Project, LLC, Tuscola Wind II, LLC.

Description: Amendment to November 6, 2013 Application for Authorization Under Section 203 of the Federal Power Act of Steele Flats Wind Project, LLC, et al.

Filed Date: 11/15/13.

Accession Number: 20131115-5235.

Comments Due: 5 p.m. E.T. 11/27/13.

Docket Numbers: EC14-30-000.

Applicants: Shiloh IV Lessee, LLC.

Description: Application of Shiloh IV Lessee, LLC for Authorization under Section 203 of the Federal Power Act and Requests for Waivers, Confidential Treatment and Expedited Consideration.

Filed Date: 11/15/13.

Accession Number: 20131115-5238.

Comments Due: 5 p.m. E.T. 12/6/13.

Take notice that the Commission received the following electric rate filings:

Docket Numbers: ER07-956-007.

Applicants: Entergy Services, Inc.

Description: Compliance Filing of Entergy Services, Inc.

Filed Date: 11/15/13.

Accession Number: 20131115-5236.

Comments Due: 5 p.m. E.T. 12/6/13.

Docket Numbers: ER09-1224-006.

Applicants: Entergy Operating Companies.

Description: Compliance Filing of Entergy Operating Companies.

Filed Date: 11/15/13.

Accession Number: 20131115-5240.

Comments Due: 5 p.m. E.T. 12/6/13.

Docket Numbers: ER13-75-004.

Applicants: Public Service Company of Colorado.

Description: 2013-11-15-SPS Order 1000 Compliance Filing to be effective N/A.

Filed Date: 11/15/13.

Accession Number: 20131115-5160.

Comments Due: 5 p.m. E.T. 12/16/13.

Docket Numbers: ER13-366-002.

Applicants: Southwest Power Pool, Inc.

Description: Order No. 1000 Regional Compliance Filing to be effective 3/30/2014.

Filed Date: 11/15/13.

Accession Number: 20131115-5198.

Comments Due: 5 p.m. E.T. 12/16/13.

Docket Numbers: ER14-343-001.

Applicants: NV Energy, Inc.

Description: OATT Order No. 764 Compliance—Section 14.6 to be effective 11/12/2013.

Filed Date: 11/13/13.

Accession Number: 20131113-5185.

Comments Due: 5 p.m. E.T. 12/4/13.

Docket Numbers: ER14-346-001.

Applicants: MATL LLP.

Description: Errata to ER14-346-000 to be effective 12/31/9998.

Filed Date: 11/14/13.

Accession Number: 20131114-5131.

Comments Due: 5 p.m. E.T. 12/5/13.

Docket Numbers: ER14-411-000.

Applicants: Public Service Company of Colorado.

Description: 2013-11-15-SPS-Cancellation of Attach-R to be effective 1/14/2014.

Filed Date: 11/15/13.

Accession Number: 20131115-5154.

Comments Due: 5 p.m. E.T. 12/6/13.

Docket Numbers: ER14-412-000.

Applicants: MidAmerican Energy Company.

Description: Engineering and Procurement Agreement—Macksburg to be effective 11/18/2013.

Filed Date: 11/15/13.

Accession Number: 20131115-5157.

Comments Due: 5 p.m. E.T. 12/6/13.

Docket Numbers: ER14-413-000.

Applicants: ALLETE Clean Energy, Inc.

Description: ALLETE Clean Energy MBR Tariff Filing to be effective 1/6/2014.

Filed Date: 11/15/13.

Accession Number: 20131115-5158.

Comments Due: 5 p.m. E.T. 12/6/13.

Docket Numbers: ER14-414-000.

Applicants: Entergy New Orleans, Inc.

Description: WDS Tariff to be effective 12/19/2013.

Filed Date: 11/15/13.

Accession Number: 20131115-5161.

Comments Due: 5 p.m. E.T. 12/6/13.

Docket Numbers: ER14-415-000.

Applicants: Macquarie Energy LLC.

Description: Second Revised Reassignment Tariff to be effective 6/30/2013.

Filed Date: 11/15/13.

Accession Number: 20131115-5163.

Comments Due: 5 p.m. E.T. 12/6/13.

Docket Numbers: ER14-416-000.

Applicants: Southwest Power Pool, Inc.

Description: Integrated Marketplace Third Supplemental Filing to be effective 3/1/2014 under ER14-416 Filing Type: 10.

Filed Date: 11/15/13.

Accession Number: 20131115-5195.

Comments Due: 5 p.m. E.T. 12/6/13.

Take notice that the Commission received the following electric securities filings:

Docket Numbers: ES14-2-000.

Applicants: AEP Generation Resources Inc.

Description: Second Amendment to October 15, 2013 Application Under Section 204 of the Federal Power Act for Authorization to Issue Securities of AEP Generation Resources Inc.

Filed Date: 11/14/13.

Accession Number: 20131114-5177.

Comments Due: 5 p.m. E.T. 11/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2013.
Nathaniel J. Davis, Sr.,
Deputy Secretary.

[FR Doc. 2013-28346 Filed 11-25-13; 8:45 am]

BILLING CODE 6717-01-P